DEPARTMENT OF ENERGY

Federal Energy Regulatory Commission

Notice of Application for Amendment of License and Soliciting Comments, Motions To Intervene, and Protests and Adoption of Environmental Impact Statement

December 5, 2003.

Take notice that the following applications have been filed with the Commission and are available for public inspection:

a. Application Type: (1) Application for Approval of the Rock Island Anadromous Fish Agreement and Habitat Conservation Plan and Adoption as an Amendment of License; (2) Application for Approval of the Rocky Reach Anadromous Fish Agreement and Habitat Conservation Plan as an Offer of Settlement and Adoption as an Amendment of License; and (3) Application for Approval of the Wells Anadromous Fish Agreement and Habitat Conservation Plan and Adoption as an Amendment of License.

In accordance with the Commission's procedures for complying with the National Environmental Policy Act (NEPA), and consistent with the regulations of the Council on Environmental Quality (CEQ) for implementing NEPA at 40 CFR1506.3, the Commission, as a cooperating agency, has decided to adopt an environmental impact statement (EIS) produced by the U.S. Department of Commerce, National Oceanic and Atmospheric Administration's National Marine Fisheries Service. The EIS is titled: “Anadromous Fish Agreements and Habitat Conservation Plans, Final Environmental Impact Statement for the Wells, Rocky Reach, and Rock Island Hydroelectric Projects.” The FERC staff has independently reviewed the EIS, and agrees with its analyses and conclusions. The staff, therefore, finds that the EIS meets the standards for an adequate environmental analysis under NEPA, and can be adopted.

b. Project Numbers: P-2149-106, P-2145-057, and P-943-083.

c. Date Filed: November 24, 2003.

d. Applicants: Public Utility District No. 1 of Chelan County, Washington (P-943 and P-2145) and Public Utility District No. 1 of Douglas County, Washington (P-2149).

e. Name of Projects: Wells Project (FERC No. P-2149), Rocky Reach Project (FERC No. P-2145), and Rock Island Project (FERC No. P-943).

f. Location: The projects are located on the main stem Columbia River.

g. Filed Pursuant to: Federal Power Act, 16 U.S.C. 791 (a) 825(r) and 799 and 801.

h. Applicant Contacts: Tracy Yount, Public Utility District No. 1 of Chelan County, Washington, P.O. Box 1231, Wenatchee, WA 98807-1231, phone: (509) 663-8121.

Robert W. Clubb, Public Utility District No. 1 of Douglas County, Washington, 1151 Valley Mall Parkway, East Wenatchee, WA 98802-4497, phone: (509) 884-7191.

i. FERC Contact: Any questions on this notice should be addressed to Mr. Robert Fletcher at (202) 502-8901, or e-mail address: robert.fletcher@ferc.gov.

j. Deadline for filing comments and or motions: January 9, 2004.

k. Description of Request: The licensees for each of these three projects request Commission approval of their Anadromous Fish Agreements and project-specific Habitat Conservation Plans. The objectives of these agreements and plans are to achieve no net impact for each anadromous fish species and their habitat affected by each project. Further, the licensees request the Commission to amend the license of each project to incorporate the plans into the respective licenses with articles that read as follows:

Article X. The licensee will carry out its obligations set forth in the Anadromous Fish Agreement and Habitat Conservation Plan for the specified project (HCP Agreement). Further, the licensee will file with the Commission: (1) The final annual and comprehensive progress reports developed pursuant to the HCP Agreement; and (2) the final results of all studies and testing pursuant to the HCP Agreement.

Article Y. The licensee will file design drawings prior to implementation of any substantial modification or addition to project works that is necessary to implement the HCP Agreement. The licensee will file such design drawings for Commission approval at least 90 days prior to the start of construction or modification. The licensee will file as-built drawings with the Commission within 6 months after completion of construction or modification.

l. Locations of the Application: A copy of the application is available for inspection and reproduction at the Commission's Public Reference Room, located at 888 First Street, NE, Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via email of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers (p-2149-106, p-2145-057, and/or p-943-083). All documents (original and eight copies) should be filed with: Magalie R. Salas, Secretary, Federal Energy Regulatory Commission, 888 First Street NE., Washington DC 20426. A copy of any motion to intervene must also be served upon each representative of the Applicant specified in the particular application.

p. Agency Comments—Federal, State, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Magalie R. Salas,
Secretary.

[FR Doc. E3-00535 Filed 12-11-03; 8:45 am]

BILLING CODE 6717-01-P